DEPARTMENT OF THE INTERIOR

Bureau of Safety and Environmental Enforcement

30 CFR Part 250

Bureau of Ocean Energy Management

30 CFR Part 550

[Docket ID BSEE-2019-0008, EEEE500000, 21XE1700DX, EX1SF0000.EAQ000]

RIN 1082-AA01

Oil and Gas and Sulfur Operations in the Outer Continental Shelf— Revisions to the Requirements for Exploratory Drilling on the Arctic Outer Continental Shelf

AGENCY: Bureau of Safety and Environmental Enforcement (BSEE) and Bureau of Ocean Energy Management (BOEM), Department of the Interior.

ACTION: Withdrawal of proposed rule.

SUMMARY: The U.S. Department of the Interior (DOI or Department), acting through BSEE and BOEM, hereby withdraws in its entirety the proposed rule published on December 9, 2020, entitled “Revisions to the Requirements for Exploratory Drilling on the Arctic Outer Continental Shelf.”

DATES: As of the date of signature, June 23, 2021, the proposed rule published on December 9, 2020, at 85 FR 79266 is withdrawn.

FOR FURTHER INFORMATION CONTACT: For questions on any BSEE issues, contact Kirk Malstrom, BSEE, at kirk.malstrom@bsee.gov or at (703) 787-1751. For questions on any BOEM issues, contact Deanna Meyer-Pietruszka, BOEM, Chief, Office of Policy, Regulation, and Analysis, at Deanna.Meyer-Pietruszka@boem.gov or by mail to 1849 C Street NW, Washington, DC 22040 or by calling (202) 208-6352.

SUPPLEMENTARY INFORMATION: On July 15, 2016, BSEE and BOEM promulgated a narrowly focused rule (see 2016 Arctic Exploratory Drilling Rule at 81 FR 46478) revising the regulations applicable to exploratory drilling operations conducted during the Arctic Outer Continental Shelf (OCS) open-water drilling season by drilling vessels and “jack-up rigs” (collectively known as mobile offshore drilling units or MODUs) in the Beaufort Sea and Chukchi Sea Planning Areas. The regulations promulgated through the 2016 Arctic Exploratory Drilling Rule were intended to ensure that Arctic OCS exploratory drilling operations are conducted in a safe and responsible manner, while taking into account the unique conditions of the Arctic OCS as well as Alaska Natives' cultural traditions and their need for access to subsistence resources.

E.O. 13795, “Implementing an America-First Offshore Energy Strategy” (82 FR 20815), issued on April 28, 2017, and S.O. 3350, “America-First Offshore Energy Strategy,” issued on May 1, 2017, directed BSEE and BOEM to undertake a review of the 2016 Arctic Exploratory Drilling Rule. In response, on December 9, 2020, the Department published the proposed rule: “Oil and Gas and Sulfur Operations on the Outer Continental Shelf—Revisions to the Requirements for Exploratory Drilling on the Arctic Outer Continental Shelf” (85 FR 79266) (2020 Proposed Arctic Exploratory Drilling Rule). The proposed rule provided a 60-day public comment period, which closed February 8, 2021. After publication of the proposed rule, BSEE and BOEM received requests to extend the comment period for 60 days. BSEE and BOEM subsequently re-opened the comment period for an additional 60 days through a notice published in the Federal Register on February 10, 2021 (86 FR 8878). That comment period closed on April 9, 2021.

Since publication of the 2020 Proposed Arctic Exploratory Drilling Rule, President Biden issued E.O. 13990, “Protecting Public Health and the Environment and Restoring Science to Tackle the Climate Crisis” (86 FR 7037, Jan. 25, 2021). E.O. 13990 establishes a policy to, among other things, promote and protect public health and the environment. Section 7 of the E.O. revoked E.O. 13795. Further, on April 16, 2021, Secretary Haaland issued S.O. 3398, which revoked S.O. 3350. The Department has decided it will not proceed with a final rule codifying any provisions of the 2020 Proposed Arctic Exploratory Drilling Rule, and the proposed rule is hereby withdrawn. The withdrawal of the proposed rule does not preclude the Department from initiating the same or a similar rulemaking at a future date. Should the Department decide to undertake such a rulemaking, it will begin with a new proposed rule and provide new opportunities for comment.

Laura Daniel-Davis,
Principal Deputy Assistant Secretary, Land and Minerals Management.

[FR Doc. 2021-13803 Filed 6-28-21; 8:45 am]

BILLING CODE 4310-VH-P; 4310-MR-P